ENVIRONMENTAL PROTECTION AGENCY

[FRL-6602-7]

Notice of Proposed Administrative Settlement Pursuant to the Comprehensive Environmental Response, Compensation and Liability Act (“CERCLA”), Union Pacific Railroad Wallace-Mullan Branch

AGENCY: Environmental Protection Agency (EPA).

ACTION: Notice; request for comment.

SUMMARY: In accordance with section 122(i) of the Comprehensive Environmental Response, Compensation, and Liability Act, as amended (“CERCLA”), 42 U.S.C. 9622(i), notice is hereby given of a proposed administrative settlement with the Union Pacific Railroad Company for recovery of certain response costs concerning the Union Pacific Railroad Wallace-Mullan Branch in northern Idaho. The settlement requires Union Pacific to pay a total of $650,000 to the Hazardous Substance Superfund. The settlement includes a limited covenant not to sue pursuant to 42 U.S.C. 9607(a) and provides for contribution protection pursuant to 42 U.S.C. 9622(h). This administrative settlement will be superseded upon entry of a consent decree lodged on December 23, 1999, by the United States, State of Idaho, Coeur d'Alene, and Union Pacific, Case No. 99-606-N-EJL (D. Idaho), or will otherwise terminate three months from the effective date of the administrative settlement, unless otherwise agreed by the parties to this settlement. EPA will consider public comments on the proposed administrative settlement for thirty days. EPA may withdraw from or modify this proposed settlement should such comments disclose facts or considerations which indicate this proposed settlement is inappropriate, improper, or inadequate.

DATES: Written comments must be provided on or before June 8, 2000.

ADDRESSES: Comments should be addressed to Clifford J. Villa, Assistant Regional Counsel, Environmental Protection Agency, Region 10, 1200 Sixth Ave., ORC-158, Seattle, Washington 98101 and refer to In the Matter of Union Pacific Railroad Wallace-Mullan Branch Notice of Proposed Administrative Settlement.

Copies of the proposed settlement are available from: Clifford J. Villa, U.S. Environmental Protection Agency, Region 10, Office of Regional Counsel, 1200 Sixth Avenue, Seattle, Washington, 98101, (206) 553-1185.

FOR FURTHER INFORMATION CONTACT: Clifford J. Villa at (206) 553-1185.

Authority: The Comprehensive Environmental Response, Compensation and Liability Act of 1980, as amended (“CERCLA”), 42 U.S.C. 9622(i).

Sheila M. Eckman,
Acting Regional Administrator, Region 10.

[FR Doc. 00-11570 Filed 5-8-00; 8:45 am]

BILLING CODE 6560-50-P